SECURITIES AND EXCHANGE COMMISSION

Issuer Delisting; Notice of Application To Withdraw From Listing and Registration; (DuraSwitch Industries, Inc., Common Stock, $.001 Par Value) File No. 1-15069

October 12, 2000.

DuraSwithch Industries, Inc., a Nevada corporation (“Comany”), has filed an application with the Securities and Exchange Commission (“Commission”), pursuant to Section 12(d) of the Securities and Exchange Act of 1934 (“Act”) ¹ and Rule 12d2-2(d) thereunder,² to withdraw its Common Stock, $.001 par value (“Security”), from listing and registration on the American Stock Exchange LLC (“Amex”).

¹ 15 U.S.C. 78l(d).

² 17 CFR 240.12d2-2(d).

The Company has effected a new listing for its Security on the National Market of the Nasdaq Stock Market, Inc. (“Nasdaq”). Trading in the Security on the Nasdaq commenced, and was concurrently suspended on the Amex, at the opening of business on October 11, 2000. The Company hopes to realize a broader institutional and retail investor base by transferring trading in its Security to the Nasdaq.

The Company has stated in its application that it has complied with the rules of the Amex governing the withdrawal of its Security and that its application relates solely to the withdrawal of the Security from listing and registration on the Amex and shall have no effect upon the Security's continued designation for quotation on the Nasdaq and registration under Section 12(g) of the Act.³

³ 15 U.S.C. 78l(g).

Any interested person may, on or before November 2, 2000, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 00-26743 Filed 10-17-00; 8:45 am]

BILLING CODE 8010-01-M